FEDERAL COMMUNICATIONS COMMISSION

[FRS 33694]

Radio Broadcasting Services; AM or FM Proposals To Change the Community of License

AGENCY: Federal Communications Commission.

ACTION: Notice.

DATES: The agency must receive comments on or before September 7, 2021.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: GEORGIA-CAROLINA RADIOCASTING COMPANY, LLC, WHTD(AM), Fac. ID No. 54562, From ELBERTON, GA, To CLAYTON, GA, File No. BP-20200728AAE; NELSON MULTIMEDIA, INC, WDYS(AM), Fac. ID No. 69700, From GENEVA, IL, To SOMONAUK, IL, File No. BMP-20210524AAJ; BRANTLEY BROADCAST ASSOCIATES LLC, WWTM(AM), Fac. ID No. 54328, From DECATUR, AL, To MOORESVILLE, AL, File No. BP-20210505AAG; ZIMMER MIDWEST COMMUNICATIONS, INC., KBFL-FM, Fac. ID No. 33654, From BUFFALO, MO, To FAIR GROVE, MO, File No. 0000143246; CLARO COMMUNICATIONS, LTD, KUKA(FM), Fac. ID No. 2818, From SAN DIEGO, TX, To BISHOP, TX, File No. 0000145176; ZIMMER MIDWEST COMMUNICATIONS, INC., KWTO-FM, Fac. ID No. 63339, From SPRINGFIELD, MO, To BUFFALO, MO, File No. 0000143248; FAMILY LIFE MINISTRIES, INC., WCGT(FM), Fac. ID No. 172665, From TIDIOUTE, PA, TO CLINTONVILLE, PA, File No. 0000145265; RADIOACTIVE, LLC, WKFC(FM), Fac. ID No. 164241, From NORTH CORBIN, KY, TO CRAB ORCHARD, KY File No. 0000145184; CHOICE RADIO CORPORATION, WKKQ(FM), Fac. ID No. 3954, FROM BARBOURVILLE, KY, TO NORTH CORBIN, KY, File No. 0000145185; SALEM COMMUNICATIONS HOLDING CORPORATION, WLTE(FM), Fac. ID No. 170949, From PENDLETON, SC, To POWDERSVILLE, SC, File No. 0000148015; RADIOACTIVE, LLC, WPBK(FM), Fac. ID No. 164242, From CRAB ORCHARD, KY, HUSTONVILLE, KY, File No. 0000145182; SUTTON RADIOCASTING CORPORATION, WRBN(FM), Fac. ID No. 56201, From CLAYTON, GA, To TOCCOA, GA, File No. 0000143723; REVIVAL CHRISTIAN MINISTRIES, INC., WSGG(FM), Fac. ID No. 92857, From CANAAN, CT, To NORFOLK, CT, File No. 0000145109; and RADIOJONES, LLC, WXRS-FM, Fac. ID No. 36212, From PORTAL, GA, To STATESBORO, GA, File No. 0000143396. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2021-14267 Filed 7-2-21; 8:45 am]

BILLING CODE 6712-01-P